ENVIRONMENTAL PROTECTION AGENCY

[FRL-8458-2]

National Environmental Justice Advisory Council; Notification of Public Meeting and Public Comment

AGENCY: Environmental Protection Agency (EPA).

ACTION: Notification of Public Meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come basis.

DATES: The NEJAC meeting will convene Tuesday, September 18, 2007, from 9 a.m. to 9:30 p.m., and reconvene Wednesday, September 19, 2007, from 9 a.m. to 6 p.m., and Thursday, September 20, 2007, from 9 a.m. to 3 p.m. One public comment session relevant to the specific issues being considered by the NEJAC (see SUPPLEMENTARY INFORMATION) is scheduled for Tuesday evening, September 18, 2007, from 6:30 p.m. to 9:30 p.m. All times noted are Eastern Time. Members of the public who wish to participate in the public comment period are encouraged to pre-register by Wednesday, September 12, 2007.

ADDRESSES: The NEJAC committee meeting will be held at the Tremont Grand Conference Center, 225 North Charles Street, Baltimore, Maryland 21201, telephone 443-573-8444.

FOR FURTHER INFORMATION, CONTACT: Correspondence concerning the meeting should be sent to Ms. Victoria Robinson, NEJAC Program Manager, U.S. Environmental Protection Agency, at 1200 Pennsylvania Avenue, NW., (MC2201A), Washington, DC 20460; via e-mail at environmental-justice-epa@epa.gov; by telephone at (202) 564-6349; or by Fax at (202) 564-1624. Additional information about the meeting is available at the Internet Web site: http://www.epa.gov/compliance/environmentaljustice/nejac/meetings.html

Pre-registration for all attendees is recommended. To register online, visit the Web site above. Requests for pre-registration forms should be sent to Ms. Julianne Pardi of ICF International at: 9300 Lee Highway, Fairfax, Virginia 22031; Telephone: (703) 934-3873; E-mail: jpardi@icfi.com, or Fax: (703) 934-3270. Hearing-impaired individuals or non-English speaking attendees wishing to arrange for a sign language or foreign language interpreter may make appropriate arrangements using these numbers also.

SUPPLEMENTARY INFORMATION: The Charter of the NEJAC states that the advisory committee shall provide independent advice to the Administrator on areas that may include, among other things, “advice about EPA's progress, quality and adequacy in planning, developing and implementing environmental justice strategies, projects and programs” relating to environment justice.

The meeting shall be used to receive comments, discuss, and provide recommendations regarding two major areas: (1) Strategies to identify, mitigate, and/or prevent the disproportionate burden on communities of air pollution resulting from goods movement activities; and (2) key issues related to integration of environmental justice considerations in EPA's programs, policies, and activities.

A. Air Pollution Impacts of Goods Movement on Communities: Environmental pollution from the movement of freight is becoming a major public health concern at the national, regional and community level. Also known as “goods movement,” the distribution of freight involves diesel-powered vehicles and equipment almost every step of the way, resulting in significant emissions of particulate matter (PM), nitrogen oxides (NOX), hydrocarbons, and other air toxics throughout the process. A substantial body of scientific evidence asserts these emissions are or could be linked to respiratory disorders, cancer, heart disease, and premature death. Concern over goods movement has increased due to recent and projected increases in foreign trade require significant improvements to the essential infrastructure needed to move freight from coastal ports to the rest of the country. In most cases, goods movement involves an entire system of transportation facilities, including seaports, airports, railways, truck lanes, logistics centers, and border crossings. It is becoming increasingly important that these entities operate sustainably, i.e., economically viable, environmentally and socially responsible, safe, and secure.

EPA has requested that the NEJAC provide advice and recommendations regarding how the Agency can most effectively promote strategies, in partnership with federal, state, tribal, and local government agencies, to identify, mitigate, and/or prevent the disproportionate burden on communities of air pollution resulting from goods movement activities.

B. Key Issues Related to Integration of Environmental Justice Considerations in EPA's Programs, Policies and Activities: The Agency will provide briefings about two key initiatives to further its efforts toward environmental justice integration: (1) The Environmental Justice Strategic Enforcement Assessment Tool, and (2) Environmental Justice Program Reviews:

(1) Environmental Justice Strategic Enforcement Assessment Tool (EJSEAT)” identifies areas with potential environmental justice concerns based on indicators (e.g., health, environmental, compliance and social demographics) described in EPA's environmental justice guidance document, “Toolkit for Assessing Potential Allegations of Environmental Injustice.” EJSEAT enhances EPA's ability to protect minority and low-income communities and other burdened communities from adverse human health and environmental effects. EPA enforcement personnel will use EJSEAT to identify, in a more consistent and analytically rigorous manner, areas that may be disproportionately and adversely affected by environmental effects. EJSEAT will assist EPA's Office of Enforcement and Compliance Assistance (OECA) to make fair and efficient resource deployment decisions. EPA will evaluate the potential for applying the tool in other Agency programs and activities.

(2) Environmental Justice Program Reviews: On September 18, 2006, EPA's Inspector General (OIG) issued an evaluation report entitled, “EPA Needs to Conduct Environmental Justice Reviews of its Programs, Policies, and Activities.” The OIG conducted this review to determine whether EPA performed environmental justice reviews of their program, policies, and activities as required by Executive Order 12898, and whether additional guidance is needed.

The evaluation report identified four recommendations which EPA concurred with:

• Require the Agency's program and regional offices to identify which programs, policies, and activities need environmental justice reviews and require these offices to establish a plan to complete the necessary reviews.

• Ensure that environmental justice reviews determine whether the programs, policies, and activities may have a disproportionately high and adverse health or environmental impact on minority and low-income populations.

• Require each program and regional office to develop, with the assistance of the Office of Environmental Justice, specific environmental justice review guidance, which includes protocols, a framework, or directions for conducting environmental justice reviews.

• Designate a responsible office to: (a) Compile the results of environmental justice reviews, and (b) recommend appropriate actions to review findings and make recommendations to the decision-making office's senior leadership.

Deputy Administrator Marcus Peacock stated in a memorandum dated December 18, 2006, in response to the OIG report that, “the Agency needs a more systematic, broader-scale approach to identifying and addressing disproportionate impacts to human health and the environment.” Deputy Administrator Peacock then stated that EPA will begin by developing the necessary protocols to provide guidance on conducting environmental justice reviews of its programs, policies and activities.

C. Public Comment: Individuals or groups making oral presentations during the public comment period will be limited to a total time of five minutes. Only one representative of a community, an organization, or a group will be allowed to speak. Any number of written comments can be submitted for the record. The suggested format for individuals making public comment should be as follows: Name of Speaker, Name of Organization/Community, Address/Telephone/E-mail, Description of Concern and its Relationship to the policy issue(s), and Recommendations or desired outcome. Written comments received by September 10, 2007, will be included in the materials distributed to the members of the NEJAC. Written comments received after that date will be provided to the NEJAC as logistics allow. All information should be sent to the address, e-mail, or fax number listed in the Contact section above.

D. Information about Services for the Handicapped: Individuals requiring special accommodations at this meeting, including wheelchair access to the conference room, should contact Ms. Julianne Pardi at least five business days prior to the meeting so that appropriate arrangements can be made to facilitate their participation. For information about facilities or services for the handicapped or to request special assistance at the meetings, contact Ms. Pardi as soon as possible. All requests should be sent to the address, e-mail, or fax number listed in the Contact section above.

Dated: August 9, 2007.
Charles Lee,
Designated Federal Officer, National Environmental Justice Advisory Council.

[FR Doc. E7-16613 Filed 8-21-07; 8:45 am]

BILLING CODE 6560-50-P